DEPARTMENT OF TRANSPORTATION

Federal Aviation Administration

14 CFR Part 39

[Docket No. FAA-2005-20803; Directorate Identifier 2005-CE-19-AD]

RIN 2120-AA64

Airworthiness Directives; BURKHARDT GROB LUFT-UND RAUMFAHRT GmbH & CO KG Models G103 TWIN ASTIR, G103 TWIN II, G103A TWIN II ACRO, G103C TWIN III ACRO, and G103C Twin III SL Sailplanes

AGENCY: Federal Aviation Administration (FAA), DOT.

ACTION: Notice of proposed rulemaking (NPRM).

SUMMARY: The FAA proposes to supersede Airworthiness Directive (AD) 2004-08-13, which applies to certain BURKHARDT GROB LUFT-UND RAUMFAHRT GmbH & CO KG (Grob) Models G103 TWIN ASTIR, G103 TWIN II, G103 TWIN III ACRO, and G103C Twin III SL sailplanes. AD 2004-08-13 currently requires you to replace the center of gravity (CG) release hook attachment brackets with brackets of improved design. This proposed AD results from mandatory continuing airworthiness information (MCAI) issued by the airworthiness authority for Germany. This proposed AD would retain all the actions required in AD 2004-08-13 and add Model G103A TWIN II ACRO sailplanes to the applicability. The actions specified by this proposed AD are to prevent abnormal or uncontrolled sailplane release due to cracked CG release hook attachment brackets. This condition could result in reduced or loss of sailplane control.

DATES: We must receive any comments on this proposed AD by November 9, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact BURKHARDT GROB LUFT-UND RAUMFAHRT GmbH & CO KG, Letenbachstrasse 9, D-86874 Tussenhausen-Mattsies, Germany; telephone: 011 49 8268 998139; facsimile: 011 49 8268 998200.

To view the comments to this proposed AD, go to http://dms.dot.gov. The docket number is FAA-2005-20803; Directorate Identifier 2005-CE-19-AD.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Comments Invited

How do I comment on this proposed AD? We invite you to submit any written relevant data, views, or arguments regarding this proposal. Send your comments to an address listed under ADDRESSES. Include the docket number, “FAA-2005-20803; Directorate Identifier 2005-CE-19-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-20803; Directorate Identifier 2005-CE-19-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains this proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

Has FAA taken any action to this point? Reports of cracks found in the center of gravity (CG) release hook attachment brackets caused us to issue AD 2004-08-13, Amendment 39-13582 (69 FR 21402, April 21, 2004). AD 2004-08-13 applies to Grob Models G103 TWIN ASTIR, G103 TWIN II, G103 TWIN III ACRO, and G103C Twin III SL sailplanes. That AD currently requires you to replace the center of gravity (CG) release hook attachment brackets with brackets of improved design.

What has happened since AD 2004-08-13 to initiate this proposed action? The Luftfahrt-Bundesamt (LBA), which is the airworthiness authority for Germany, notified FAA of the need to change AD 2004-08-13. The LBA reports that the actions required in AD 2004-08-13 should also apply to Model G103A TWIN II ACRO sailplanes.

What is the potential impact if FAA took no action? A cracked CG release hook attachment bracket, if not prevented, could lead to abnormal or uncontrolled sailplane release. This condition could result in reduced or loss of sailplane control.

Is there new service information that applies to this subject? Grob has issued Service Bulletin No. MSB315-62/2, dated March 9, 2005.

What are the provisions of this service information? The service bulletin includes procedures for inspecting and replacing the CG release hook attachment brackets for Models G103 TWIN ASTIR, G103 TWIN II, G103A TWIN II ACRO, and G103C TWIN III ACRO sailplanes.

What action did the LBA take? The LBA previously classified Grob Service Bulletin No. MSB315-62, dated January 21, 2002, as mandatory and issued German AD No. 2002-067, effective date: March 21, 2002, to ensure the continued airworthiness of these sailplanes in Germany.

Did the LBA inform the United States under the bilateral airworthiness agreement? These Grob Models G103 TWIN ASTIR, G103 TWIN II, G103A TWIN II ACRO, G103C TWIN III ACRO, and G103C Twin III SL sailplanes are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of This Proposed AD

What has FAA decided? We have examined the LBA's findings, reviewed all available information, and determined that AD action is necessary for products of this type design that are certificated for operation in the United States.

Since the unsafe condition described previously is likely to exist or develop on other Grob Models G103 TWIN ASTIR, G103 TWIN II, G103A TWIN II ACRO, G103C TWIN III ACRO, and G103C Twin III SL sailplanes of the same type design that are registered in the United States, we are proposing AD action to prevent abnormal or uncontrolled sailplane release due to cracked CG release hook attachment brackets. This condition could result in reduced or loss of sailplane control.

What would this proposed AD require? This proposed AD would supersede AD 2004-08-13, Amendment 39-13582 (69 FR 21402, April 21, 2004) with a new AD. This proposed AD would retain the actions exactly and currently required in AD 2008-08-13 actions for Models G103 TWIN ASTIR, G103 TWIN II, G103C TWIN III ACRO, and G103C Twin III SL sailplanes and would add Model G103A TWIN II ACRO sailplanes to the applicability.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many sailplanes would this proposed AD impact? We estimate that this proposed AD affects 136 sailplanes in the U.S. registry.

What would be the cost impact of this proposed AD on owners/operators of the affected sailplanes? We estimate the following costs to do this proposed replacement:

Labor cost | Parts cost | Total cost per sailplane | Total cost on U.S. operators
2 workhours × $65 per hour = $130. | $67 | $197 | $197 × 136 = $26,792.

What is the difference between the cost impact of this proposed AD and the cost impact of AD 2004-08-13? The only difference between the cost impact of AD 2004-08-13 and this proposed AD is the addition of Model G103A TWIN II ACRO sailplanes to the applicability. There is no difference in the cost to do the proposed required actions.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-20803; Directorate Identifier 2005-CE-19-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-08-13, Amendment 39-13582 (69 FR 21402, April 21, 2004), and by adding a new AD to read as follows:

Burkhardt Grob Luft-Und Raumfahrt GmBH & Co KG: Docket No. FAA-2005-20803; Directorate Identifier 2005-CE-19-AD; supersedes AD 2004-08-13, Amendment 39-13582.

When Is the Last Date I Can Submit Comments on This Proposed AD?

(a) We must receive comments on this proposed airworthiness directive (AD) by November 9, 2005.

What Other ADs Are Affected by This Action?

(b) This AD supersedes AD 2004-08-13, Amendment 39-13582.

What Sailplanes Are Affected by This AD?

(c) This AD affects the following model sailplanes, all serial numbers, that are certificated in any category:

Models
(1) G103 TWIN ASTIR
(2) G103 TWIN II
(3) G103A TWIN II ACRO
(3) G103C TWIN III ACRO
(4) G 103 C Twin III SL

What Is the Unsafe Condition Presented in This AD?

(d) This AD is the result of mandatory continuing airworthiness information (MCAI) issued by the airworthiness authority for Germany. The actions of this AD are intended to prevent abnormal or uncontrolled sailplane release due to cracked center of gravity (CG) release hook attachment brackets. This condition could result in reduced or loss of sailplane control.

What Must I Do To Address This Problem?

(e) To address this problem, you must do the following:

Actions | Compliance | Procedures
(1) Replace the CG release hook attachment brackets with improved design brackets, as follows:
(i) For Models G103 TWIN ASTIR, G103 TWIN II, G103A TWIN II ACRO, and G103C TWIN III ACRO sailplanes: install new part number (P/N) 103B-2360.01/1 or 103B—2360.01/2 and P/N 103B-2360.02/1 or 103B-2360-02/2; and
(ii) For Model G103 TWIN ASTIR sailplanes: install an additional plate, P/N 103-2360.02 below each attachment bracket; and
(iii) For Model G 103 C Twin III SL sailplanes: install new P/N 103B-2360.01/2 and P/N 103B-2360.02/2 | For sailplanes previously affected by AD 2004-08-13: Within the next 25 hours time-in-service (TIS) after June 4, 2004 (the effective date of AD 2004-08-13), unless already done. For sailplanes not previously affected by AD 2004-08-13: Within the next 25 hours time-in-service (TIS) after the effective date of this AD, unless already done | For Models G103 TWIN ASTIR, G103 TWIN II, G103A TWIN II ACRO, and G103C TWIN III ACRO sailplanes: Follow Grob Service Bulletin No. MSB315-62, dated January 21, 2002, or Grob Service Bulletin No. MSB315-62/2, dated March 9, 2005. For Model G 103 C Twin III SL sailplanes: Follow Grob Service Bulletin No. MSB869-22, dated January 22, 2002.
(2) Do not install any CG release hook attachment bracket that is not a part number referenced in paragraphs (e)(1)(i) and (e)(1)(iii) of this AD, as applicable | As of the effective date of this AD | Not Applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

Is There Other Information That Relates to This Subject?

(g) German AD No. 2002-066, effective date: March 21, 2002; and German AD No. 2002-067, effective date: March 21, 2002, also address the subject of this AD.

May I Get Copies of the Documents Referenced in This AD?

(h) To get copies of the documents referenced in this AD, contact BURKHARDT GROB LUFT-UND RAUMFAHRT GmbH & CO KG, Letenbachstrasse 9, D-86874 Tussenhausen-Mattsies, Germany; telephone: 011 49 8268 998139; facsimile: 011 49 8268 998200. To view the AD docket, go to the Docket Management Facility; U.S. Department of Transportation, 400 Seventh Street, SW., Nassif Building, Room PL-401, Washington, DC, or on the Internet at http://dms.dot.gov. This is docket number FAA-2005-20803; Directorate ID 2005-CE-19-AD.

Issued in Kansas City, Missouri, on September 28, 2005.
David R. Showers,
Acting Manager, Small Airplane Directorate, Aircraft Certification Service.

[FR Doc. 05-19942 Filed 10-4-05; 8:45 am]

BILLING CODE 4910-13-P